ENVIRONMENTAL PROTECTION AGENCY

[OPP-2005-0101; FRL-7712-9]

Pesticide Program Dialogue Committee and Consumer Pesticide Label Improvement Work Group; Notice of Public Meetings

AGENCY: Environmental Protection Agency (EPA).

ACTION: Notice.

SUMMARY: Pursuant to the Federal Advisory Committee Act, EPA gives notice of a public meeting of the Pesticide Program Dialogue Committee (PPDC) on May 11, and 12, 2005. A draft agenda has been developed and is posted on EPA's web site. Agenda topics will include: Environmental Indicators and Results; Worker Safety Activities; Endangered Species; a report from PPDC's Registration Review Work Group and the PRIA (Pesticide Registration Improvement Act) Process Improvements Work Group; program updates on Registration, Reregistration/Tolerance Reassessment, Fumigants, Human Studies, Mosquito Labeling, Spray Drift, Globally Harmonized System of Classification and Labeling of Chemicals (GHS), and Data Requirements for Registration (40 CFR part 158).

The PPDC Consumer Pesticide Label Improvement Work Group will meet on May 12, 2005. An agenda for this meeting has been developed and is posted on EPA's website.

DATES: The PPDC meeting will be held on Wednesday, May 11, 2005 from 9 a.m. to 5 p.m., and on Thursday, May 12, 2005, from 9 a.m. to 1 p.m.

The PPDC Consumer Pesticide Label Improvement Work Group will meet on Thursday, May 12, 2005, from 1 p.m. to 5 p.m.

ADDRESSES: Both meetings will be held at the National Press Club, 529 14th St., NW, Washington, DC (202) 662-7500 in the Main Ballroom on the 13th Floor. This location is one block from the METRO Center Station.

FOR FURTHER INFORMATION CONTACT: Margie Fehrenbach, Office of Pesticide Programs (7501C), Environmental Protection Agency, 1200 Pennsylvania Ave., NW., Washington, DC 20460-0001; telephone number: (703) 308-4775; fax number: (703) 308-4776; e-mail address: fehrenbach.margie@epa.gov.

For information on facilities or services for the handicapped or to request special assistance for the handicapped at the meetings, contact the Designated Federal Officer, Margie Fehrenbach, at (703) 308-4775 as soon as possible.

SUPPLEMENTARY INFORMATION:

I. General Information

A. Does this Action Apply to Me?

This action is directed to the public in general, and may be of particular interest to persons who work in agricultural settings or persons who are concerned about implementation of the Federal Insecticide, Fungicide, and Rodenticide Act (FIFRA); Federal Food, Drug, and Cosmetic Act (FFDCA); and the amendments to both of these major pesticide laws by the Food Quality Protection Act (FQPA) of 1996. Potentially affected entities may include, but are not limited to: Agricultural workers and farmers; pesticide industry and trade associations; environmental, consumer, and farmworker groups; pesticide users and growers; pest consultants; State, local and Tribal governments; academia; public health organizations; food processors; and the public. If you have questions regarding the applicability of this action to a particular entity, consult the person listed under FOR FURTHER INFORMATION CONTACT.

B. How Can I Get Copies of this Document and Other Related Information?

1. Docket. EPA has established an official public docket for this action under docket identification (ID) number OPP-2005-0101. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

A draft agenda has been developed and is posted on EPA's web site at http://www.epa.gov/pesticides/ppdc/.

II. Background

The Office of Pesticide Programs (OPP) is entrusted with responsibility to help ensure the safety of the American food supply, the education and protection from unreasonable risk of those who apply or are exposed to pesticides occupationally or through use of products, and general protection of the environment and special ecosystems from potential risks posed by pesticides.

PPDC was established under the Federal Advisory Committee Act (FACA), Public Law 92-463, in September 1995, for a 2-year term and has been renewed every 2 years since that time. PPDC provides advice and recommendations to OPP on a broad range of pesticide regulatory, policy, and program implementation issues that are associated with evaluating and reducing risks from use of pesticides. The following sectors are represented on the PPDC: Pesticide industry and trade associations; environmental/public interest and consumer groups; farm worker organizations; pesticide user, grower, and commodity groups; Federal and State/local/Tribal governments; the general public; academia; and public health organizations.

Copies of the PPDC Charter are filed with appropriate committees of Congress and the Library of Congress and are available upon request.

III. How Can I Request to Participate in this Meeting?

PPDC meetings are open to the public and seating is available on a first-come basis. Persons interested in attending do not need to register in advance of the meeting.

List of Subjects

Environmental protection, Agricultural workers, Agriculture, Chemicals, Foods, Pesticides and pests, Public health.

Dated: April 18, 2005.
James Jones,
Director, Office of Pesticide Programs.

[FR Doc. 05-8326 Filed 4-26-05; 8:45 am]

BILLING CODE 6560-50-S